GENERAL SERVICES ADMINISTRATION

[OMB Control No. 3090-0121]

General Services Administration Acquisition Regulation; Information Collection; Industrial Funding Fee and Sales Reporting

AGENCY: Office of the Chief Acquisition Officer, GSA.

ACTION: Notice of request for comments regarding a renewal to an existing OMB clearance.

SUMMARY: Under the provisions of the Paperwork Reduction Act of 1995 (44 U.S.C. Chapter 35), the General Services Administration, has submitted to the Office of Management and Budget (OMB) a request to review and approve a renewal of a currently approved information collection requirement regarding industrial funding fee and sales reporting.

Public comments are particularly invited on: Whether this collection of information is necessary and whether it will have practical utility; whether our estimate of the public burden of this collection of information is accurate, and based on valid assumptions and methodology; ways to enhance the quality, utility, and clarity of the information to be collected.

DATES: Submit comments on or before: February 28, 2005.

FOR FURTHER INFORMATION CONTACT: Ms. Linda Nelson, Procurement Analyst, Contract Policy Division, at telephone (202) 501-1900 or via e-mail to linda.nelson@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (V), General Services Administration, Room 4035, 1800 F Street, NW., Washington, DC 20405. Please cite OMB Control No. 3090-0121, Industrial Funding Fee and Sales Reporting, in all correspondence.

SUPPLEMENTARY INFORMATION:

A. Background

GSA published a notice in the August 2, 2004, Federal Register to make this requirement available to the public and requested comments. One respondent submitted comments in response to the notice. The commenter believes that the information collection requirement for the industrial funding fee and sales reporting could be conducted every two years in order to save taxpayers dollars. In response, collection of the industrial funding fee and sales information every two-year jeopardizes the Government ability to effectively manage the Federal Supply Schedules Program. The Government collects the data quarterly in order to evaluate and monitor the effectiveness of the schedule program and to negotiate better prices based on volume, which saves taxpayers dollars. As a result of collecting the data quarterly, the Government has the ability to provide upon request current schedule sales information to the federal agencies and the public.

B. Annual Reporting Burden

Respondents: 15,710.

Responses Per Respondent: 20.

Total Responses:314,200.

Hours Per Response: .0833.

Total Burden Hours: 26,173.

Obtaining Copies of Proposals: Requesters may obtain a copy of the information collection documents from the General Services Administration, Regulatory Secretariat (V), 1800 F Street, NW., Room 4035, Washington, DC 20405, telephone (202) 208-7312. Please cite OMB Control No. 3090-0121, Industrial Funding Fee and Sales Reporting, in all correspondence.

Dated: January 19, 2005.
Laura Auletta,
Director, Contract Policy Division.

[FR Doc. 05-1537 Filed 1-26-05; 8:45 am]

BILLING CODE 6820-61-S